DEPARTMENT OF VETERANS AFFAIRS

[OMB Control No. 2900—New (LGY Foreclosure Impact Survey)]

Agency Information Collection (Loan Guaranty Service (LGY) Foreclosure Impact Survey—Veterans Recently Separated) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before December 31, 2009.

ADDRESSES: Submit written comments on the collection of information through http://www.Regulations.gov; or to VA's OMB Desk Officer, OMB Human Resources and Housing Branch, New Executive Office Building, Room 10235, Washington, DC 20503, (202) 395-7316. Please refer to “OMB Control No. 2900-New (LGY Foreclosure Impact Survey)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-New (LGY Foreclosure Impact Survey).”

SUPPLEMENTARY INFORMATION: Titles: Loan Guaranty Service (LGY) Foreclosure Impact Survey—Veterans Recently Separated.

OMB Control Number: 2900-New (LGY Foreclosure Impact Survey).

Type of Review: New collection.

Abstract: The foreclosure impact survey will be used to respond to Public Law 110-389, Veterans' Benefits Improvement Act of 2008, Section 502, Report on Impact of Mortgage Foreclosures on Veterans. The mission of LGY is to help veterans and active duty personnel purchase and retain homes in recognition of their service to our nation. The program offers many advantages to veterans, including no down payment, and no mortgage insurance premiums.

The survey will address two elements of Public Law 110-389: (1) Data regarding the income levels of recently separated veterans and (2) the impact of delays in the adjudication of disability compensation claims on the capacity of veterans to maintain adequate housing.

An agency may not conduct or sponsor, and a person is not required to respond to a collection of information unless it displays a currently valid OMB control number. The Federal Register Notice with a 60-day comment period soliciting comments on this collection of information was published on September 25, 2009, at page 49073.

Affected Public: Individuals or Households.

Estimated Annual Burden: 450 hours.

Estimated Average Burden per Respondent: 15 minutes.

Frequency of Response: One time.

Estimated Number of Respondents: 1,800.

Dated: November 25, 2009.
By direction of the Secretary.
Denise McLamb,
Program Analyst, Enterprise Records Service.

[FR Doc. E9-28631 Filed 11-30-09; 8:45 am]

BILLING CODE 8320-01-P